DEPARTMENT OF AGRICULTURE

Grain Inspection, Packers and Stockyards Administration (GIPSA)

Designation for the Casa Grande, AZ Area

AGENCY: Grain Inspection, Packers and Stockyards Administration, USDA.

ACTION: Notice.

SUMMARY: GIPSA is announcing the designation of Farwell Commodity and Grain Services, Inc. (Farwell Southwest) to provide official services under the United States Grain Standards Act (USGSA), as amended.

DATES: Effective Date: April 1, 2017.

ADDRESSES: Jacob Thein, Compliance Officer, USDA, GIPSA, FGIS, QACD, 10383 North Ambassador Drive, Kansas City, MO 64153.

FOR FURTHER INFORMATION CONTACT: Jacob Thein, 816-866-2223, Jacob.D.Thein@usda.gov or FGIS.QACD@usda.gov.

Read Applications: All applications and comments are available for public inspection at the office above during regular business hours (7 CFR 1.27(c)).

SUPPLEMENTARY INFORMATION: In the January 10, 2017, Federal Register (82 FR 2939), GIPSA requested applications for designation to provide official services in the geographic area presently serviced by Farwell Southwest. Applications were due by February 9, 2017.

The current official agency, Farwell Southwest, was the only applicant for designation to provide official services in this area. As a result, GIPSA did not ask for additional comments.

GIPSA evaluated the designation criteria in section 79(f) of the USGSA (7 U.S.C. 79(f)) and determined that Farwell Southwest is qualified to provide official services in the geographic area specified in the Federal Register on January 10, 2017. This designation to provide official services in the specified areas of Arizona and California is effective April 1, 2017, to March 31, 2022.

Interested persons may obtain official services by contacting this agency at the following telephone number:

Official agency | Headquarters location and telephone | Designation start | Designation end
Farwell Southwest | Casa Grande, AZ 520-421-1027 | 4/1/2017 | 3/31/2022

Section 79(f) of the USGSA authorizes the Secretary to designate a qualified applicant to provide official services in a specified area after determining that the applicant is better able than any other applicant to provide such official services (7 U.S.C. 79 (f)).

Randall D. Jones,
Acting Administrator, Grain Inspection, Packers and Stockyards Administration.

[FR Doc. 2017-10321 Filed 5-19-17; 8:45 am]

BILLING CODE 3410-KD-P